DEPARTMENT OF ENERGY

10 CFR Part 430

[Docket No. EERE-2011-BT-NOA-0067]

RIN 1904-AC52

Energy Conservation Program: Test Procedure and Energy Conservation Standard for Set-Top Boxes and Network Equipment

AGENCY: Office of Energy Efficiency and Renewable Energy, Department of Energy.

ACTION: Extension of public comment period.

SUMMARY: This document announces an extension of the time period for submitting comments on the request for information pertaining to the development of test procedures and energy conservation standards for set-top boxes and network equipment. The comment period is extended to March 15, 2012.

DATES: The comment period for the request for information relating to set-top boxes and network equipment published on December 16, 2011 (76 FR 78174) is extended to March 15, 2012.

ADDRESSES: Any comments submitted must identify the request for information for set-top boxes and network equipment and provide docket number EERE-2011-BT-NOA-0067 and/or RIN number 1904-AC52. Comments may be submitted using any of the following methods:

• Federal eRulemaking Portal: at http://www.regulations.gov. Follow the instructions for submitting comments.

• Email: to STB-RFI-2011-NOA-0067@ee.doe.gov. Include EERE-2011-BT-NOA-0067 in the subject line of the message.

• Mail: Ms. Brenda Edwards, U.S. Department of Energy, Building Technologies Program, Mailstop EE-2J, Request for Information for Set-top boxes and Network Equipment, EERE-2011-BT-NOA-0067, 1000 Independence Avenue SW., Washington, DC 20585- 0121. Phone: (202) 586-2945. Please submit one signed paper original.

• Hand Delivery/Courier: Ms. Brenda Edwards, U.S. Department of Energy, Building Technologies Program, 6th Floor, 950 L'Enfant Plaza SW., Washington, DC 20024. Phone: (202) 586-2945. Please submit one signed paper original.

Docket: For access to the docket to read background documents, or comments received, go to the Federal eRulemaking Portal at http://www.regulations.gov.

FOR FURTHER INFORMATION CONTACT: Mr. Jeremy Dommu, U.S. Department of Energy, Office of Energy Efficiency and Renewable Energy, Building Technologies Program, EE-2J, 1000 Independence Avenue SW., Washington, DC 20585-0121. Telephone: (202) 586-9870. Email: Jeremy.Dommu@ee.doe.gov.

In the office of the General Counsel, contact Ms. Celia Sher, U.S. Department of Energy, Office of the General Counsel, GC-71, 1000 Independence Avenue SW., Washington, DC 20585-0121. Telephone: (202) 287-6122. Email: Celia.Sher@hq.doe.gov.

SUPPLEMENTARY INFORMATION: On December 16, 2011, The U.S. Department of Energy (DOE) published a request for information (RFI) in the Federal Register (76 FR 71874) to initiate a rulemaking and data collection process to develop a potential test procedure and energy conservation standard for set-top boxes and network equipment. The RFI requested public comment from interested parties regarding specific as well as general questions and provided for the submission of comments by February 14, 2012. Thereafter, AT&T Inc., on behalf of itself and its affiliates, requested an extension of the public comment period by a minimum of 30 days. AT&T stated that the additional time is necessary in order to fully evaluate and prepare the information requested in the RFI. AT&T noted that the information requested is complex and requires significant and essential input from AT&T engineering, product and technical personnel. Thus, AT&T asserted additional time is warranted to ensure quality responses to DOE's requests.

Based on AT&T's request, DOE believes that extending the comment period to allow additional time for interested parties to submit comments is appropriate. Therefore, DOE is extending the comment period until March 15, 2012 to provide interested parties additional time to prepare and submit comments. Accordingly, DOE will consider any comments received by March 15, 2012 to be timely submitted.

Issued in Washington, DC, on January 25, 2012.
Kathleen B. Hogan,
Deputy Assistant Secretary for Energy Efficiency, Energy Efficiency and Renewable Energy.

[FR Doc. 2012-2060 Filed 1-30-12; 8:45 am]

BILLING CODE 6450-01-P